NUCLEAR REGULATORY COMMISSION

[NRC-2021-0214]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person. This monthly notice includes all amendments issued, or proposed to be issued, from October 15, 2021, to November 10, 2021. The last monthly notice was published on November 2, 2021.

DATES: Comments must be filed by December 30, 2021. A request for a hearing or petitions for leave to intervene must be filed by January 31, 2022.

ADDRESSES: You may submit comments by any of the following methods, however, the NRC encourages electronic comment submission through the Federal Rulemaking website:

• Federal Rulemaking Website: Go to https://www.regulations.gov and search for Docket ID NRC-2021-0214. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Shirley Rohrer, Office of Nuclear Reactor Regulation, U.S. Nuclear Regulatory Commission, Washington, DC 20555-0001, telephone: 301-415-5411, email: Shirley.Rohrer@nrc.gov.

SUPPLEMENTARY INFORMATION:

I. Obtaining Information and Submitting Comments

A. Obtaining Information

Please refer to Docket ID NRC-2021-0214, facility name, unit number(s), docket number(s), application date, and subject when contacting the NRC about the availability of information for this action. You may obtain publicly available information related to this action by any of the following methods:

• Federal Rulemaking Website: Go to https://www.regulations.gov and search for Docket ID NRC-2021-0214.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

B. Submitting Comments

The NRC encourages electronic comment submission through the Federal Rulemaking Website (https://www.regulations.gov). Please include Docket ID NRC-2021-0214, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this document, the Commission finds that the licensees' analyses provided, consistent with Section 50.91 of title 10 of the Code of Federal Regulations (10 CFR), “Notice for public comment; State consultation,” are sufficient to support the proposed determinations that these amendment requests involve NSHC. Under the Commission's regulations in 10 CFR 50.92, “Issuance of amendment,” operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any persons (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion that support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one that, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of NSHC, the Commission will make a final determination on the issue of NSHC. The final determination will serve to establish when the hearing is held. If the final determination is that the amendment request involves NSHC, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, Federally recognized Indian Tribe, or agency thereof may participate as a non-party under 10 CFR 2.315(c).

If a petition is submitted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as discussed below, is granted. Detailed guidance on electronic submissions is located in the Guidance for Electronic Submissions to the NRC (ADAMS Accession No. ML13031A056) and on the NRC website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system timestamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as described above, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The table below provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Dominion Energy Nuclear Connecticut, Inc.; Millstone Power Station, Unit 3; New London County, CT; Dominion Energy South Carolina, Inc.; Virgil C. Summer Nuclear Station, Unit 1, Fairfield County, SC; Virginia Electric and Power Company, Dominion Nuclear Company; North Anna Power Station, Units 1 and 2; Louisa County, VA
Docket No(s) | 50-338, 50-339, 50-395, 50-423.
Application date | October 7, 2021.
ADAMS Accession No | ML21280A328.
Location in Application of NSHC | Pages 5 and 6 of Enclosure.
Brief Description of Amendment(s) | The proposed amendment would adopt Technical Specifications Task Force (TSTF) Traveler TSTF-569, “Revise Response Time Testing Definition.” The proposed amendment would revise the technical specification definition for Engineered Safety Feature Response time and Reactor Trip System Response Time Testing.
Proposed Determination | NSHC.
Name of Attorney for Licensee, Mailing Address | W.S. Blair, Senior Counsel, Dominion Resource Services, Inc., 120 Tredegar St., RS-2, Richmond, VA 23219.
NRC Project Manager, Telephone Number | G. Ed Miller, 301-415-2481.
Duke Energy Progress, LLC; Shearon Harris Nuclear Power Plant, Unit 1; Wake and Chatham Counties, NC
Docket No(s) | 50-400.
Application date | August 6, 2021.
ADAMS Accession No | ML21218A197.
Location in Application of NSHC | Page 29-44 of Enclosure 1.
Brief Description of Amendment(s) | The proposed amendment would revise Technical Specification 3.3.1, “Reactor Trip System Instrumentation,” to adjust the reactor trip on turbine interlock from interlock P-7 (Low Power Reactor Trips Block) to interlock P-8 (Power Range Neutron Flux).
Proposed Determination | NSHC.
Name of Attorney for Licensee, Mailing Address | David Cummings, Associate General Counsel, Mail Code DEC45, 550 South Tryon Street, Charlotte, NC 28202.
NRC Project Manager, Telephone Number | Michael Mahoney, 301-415-3867.
Energy Harbor Nuclear Corp. and Energy Harbor Nuclear Generation LLC; Beaver Valley Power Station, Unit Nos. 1 and 2; Beaver County, PA
Docket No(s) | 50-334, 50-412.
Application date | October 30, 2020.
ADAMS Accession No | ML21167A209.
Location in Application of NSHC | Pages 36-37 of the Attachment.
Brief Description of Amendment(s) | The amendments would revise the Emergency Plan for Beaver Valley Power Station, Unit Nos. 1 and 2.
Proposed Determination | NSHC.
Name of Attorney for Licensee, Mailing Address | Damon D. Obie, Esq, 835 Hamilton St., Suite 150, Allentown, PA 18101.
NRC Project Manager, Telephone Number | Sujata Goetz, 301-415-8004.
Entergy Louisiana, LLC, and Entergy Operations, Inc.; River Bend Station, Unit 1; West Feliciana Parish, LA; Entergy Operations, Inc., System Energy Resources, Inc., Cooperative Energy, A Mississippi Electric Cooperative, and Entergy Mississippi, LLC; Grand Gulf Nuclear Station, Unit 1; Claiborne County, MS; Entergy Operations, Inc.; Arkansas Nuclear One, Units 1 and 2; Pope County, AR; Entergy Operations, Inc.; Waterford Steam Electric Station, Unit 3; St. Charles Parish, LA
Docket No(s) | 50-313, 50-368, 50-416, 50-458, 50-382.
Application date | October 6, 2021.
ADAMS Accession No | ML21279A231.
Location in Application of NSHC | Pages 5-7 of the Enclosure.
Brief Description of Amendment(s) | The amendments would revise Technical Specifications (TSs) to adopt Technical Specifications Task Force (TSTF) Traveler TSTF-554, “Revise Reactor Coolant Leakage Requirements,” for Arkansas Nuclear One, Units 1 and 2; Grand Gulf Nuclear Station, Unit 1; River Bend Station, Unit 1; and Waterford Steam Electric Station, Unit 3. The proposed amendments would revise the TS definitions related to Leakage and the reactor coolant system operational leakage TS, for each facility, to clarify the requirements.
Proposed Determination | NSHC.
Name of Attorney for Licensee, Mailing Address | Anna Vinson Jones, Assistant General Counsel, Entergy Services, Inc., 101 Constitution Avenue NW, Suite 200 East, Washington, DC 20001.
NRC Project Manager, Telephone Number | Siva Lingam, 301-415-1564.
Entergy Louisiana, LLC, and Entergy Operations, Inc.; River Bend Station, Unit 1; West Feliciana Parish, LA; Entergy Operations, Inc., System Energy Resources, Inc., Cooperative Energy, A Mississippi Electric Cooperative, and Entergy Mississippi, LLC; Grand Gulf Nuclear Station, Unit 1; Claiborne County, MS; Entergy Operations, Inc.; Waterford Steam Electric Station, Unit 3; St. Charles Parish, LA; Entergy Operations, Inc.; Arkansas Nuclear One, Units 1 and 2; Pope County, AR
Docket No(s) | 50-313, 50-368, 50-416, 50-458, 50-382.
Application date | September 23, 2021.
ADAMS Accession No | ML21266A161.
Location in Application of NSHC | Pages 14-15 of the Enclosure.
Brief Description of Amendment(s) | The amendments would revise Technical Specifications (TSs) to adopt Technical Specifications Task Force (TSTF) Traveler TSTF-541, Revision 2, “Add Exceptions to Surveillance Requirements for Valves and Dampers Locked in the Actuated Position.” The proposed amendments would modify certain TS surveillance requirements (SRs) by adding exceptions to consider the SR met when automatic valves or dampers are locked, sealed, or otherwise secured in the actuated position in order to consider the SR met. Securing the automatic valve or damper in the actuated position may affect the operability of the system or any supported systems. The associated limiting condition for operation is met if the subject structure, system, or component remains operable (i.e., capable of performing its specified safety function).
Proposed Determination | NSHC.
Name of Attorney for Licensee, Mailing Address | Anna Vinson Jones, Assistant General Counsel, Entergy Services, Inc.,101 Constitution Avenue NW, Suite 200 East, Washington, DC 20001.
NRC Project Manager, Telephone Number | Siva Lingam, 301-415-1564.
Exelon FitzPatrick, LLC and Exelon Generation Company, LLC; James A. FitzPatrick Nuclear Power Plant; Oswego County, NY
Docket No(s) | 50-333.
Application date | July 30, 2021.
ADAMS Accession No | ML21211A078.
Location in Application of NSHC | Pages 30-32 of the Enclosure.
Brief Description of Amendment(s) | The proposed amendment would modify the James A. FitzPatrick Nuclear Power Plant licensing basis by the addition of a License Condition to allow for the implementation of the provisions of 10 CFR 50.69, “Risk-informed categorization and treatment of structures, systems and components for nuclear power reactors.” The provisions of 10 CFR 50.69 allow adjustment of the scope of equipment subject to special treatment controls (e.g., quality assurance, testing, inspection, condition monitoring, assessment, and evaluation). For equipment determined to be of low safety significance, alternative treatment requirements can be implemented in accordance with this regulation. For equipment determined to be of high safety significance, requirements will not be changed or will be enhanced.
Proposed Determination | NSHC.
Name of Attorney for Licensee, Mailing Address | Donald P. Ferraro, Assistant General Counsel, Exelon Generation Company, LLC, 200 Exelon Way, Suite 305, Kennett Square, PA 19348.
NRC Project Manager, Telephone Number | Justin Poole, 301-415-2048.
Exelon FitzPatrick, LLC and Exelon Generation Company, LLC; James A. FitzPatrick Nuclear Power Plant; Oswego County, NY
Docket No(s) | 50-333.
Application date | July 30, 2021.
ADAMS Accession No | ML21211A053.
Location in Application of NSHC | Pages 5-6 of Attachment 1.
Brief Description of Amendment(s) | The proposed amendment would modify the James A. FitzPatrick Nuclear Power Plant (FitzPatrick) Technical Specification (TS) requirements to permit the use of Risk-Informed Completion Times (RICTs) in accordance with Technical Specifications Task Force (TSTF) Traveler TSTF-505, Revision 2, “Provide Risk—Informed Extended Completion Times—RITSTF Initiative 4b,” (ADAMS Accession No. ML18183A493). A model safety evaluation was provided by the NRC to the TSTF on November 21, 2018 (ADAMS Accession No. ML18253A085). The proposed amendment would modify the TS requirements related to RICTs for Required Actions (Action allowed outage times for FitzPatrick) to provide the option to calculate a longer RICT. The RICT program is added to TS Section 5.5, Programs and Manuals. Some of the modified Required Actions in TSTF-505 are not applicable to FitzPatrick. Also, there are some plant-specific Required Actions not included in TSTF-505 that are included in this proposed amendment.
Proposed Determination | NSHC.
Name of Attorney for Licensee, Mailing Address | Donald P. Ferraro, Assistant General Counsel, Exelon Generation Company, LLC, 200 Exelon Way, Suite 305, Kennett Square, PA 19348.
NRC Project Manager, Telephone Number | Justin Poole, 301-415-2048.
Exelon Generation Company, LLC; Braidwood Station, Units 1 and 2; Will County, IL; Exelon Generation Company, LLC; Byron Station, Units 1 and 2, Ogle County, IL; Exelon Generation Company, LLC; Calvert Cliffs Nuclear Power Plant, Units 1 and 2; Calvert County, MD; Exelon Generation Company, LLC, Clinton Power Station, Unit 1, DeWitt County, IL; Exelon Generation Company, LLC; Dresden Nuclear Power Station, Units 2 and 3; Grundy County, IL; Exelon Generation Company, LLC and Exelon FitzPatrick, LLC; James A. FitzPatrick Nuclear Power Plant; Oswego County, NY; Exelon Generation Company, LLC, LaSalle County Station, Units 1 and 2; LaSalle County, IL; Exelon Generation Company, LLC; Limerick Generating Station, Units 1 and 2; Montgomery County, PA; Exelon Generation Company, LLC; Nine Mile Point Nuclear Station, Unit 2; Oswego County, NY; Exelon Generation Company, LLC and PSEG Nuclear LLC; Peach Bottom Atomic Power Station, Units 2 and 3; York and Lancaster Counties, PA; Exelon Generation Company, LLC; Quad Cities Nuclear Power Station, Units 1 and 2; Rock Island County, IL; Exelon Generation Company, LLC; R.E. Ginna Nuclear Power Plant; Wayne County, NY
Docket No(s) | 50-456, 50-457, 50-454, 50-455, 50-317, 50-318, 50-461, 50-237, 50-249, 50-333, 50-373, 50-374, 50-352, 50-353, 50-410, 50-277, 50-278, 50-254, 50-265, 50-244.
Application date | September 27, 2021.
ADAMS Accession No | ML21270A069.
Location in Application of NSHC | Attachment 1, Pages 5-6.
Brief Description of Amendment(s) | The proposed amendments would revise the Technical Specifications (TSs) for each facility based on Technical Specification Task Force (TSTF) Traveler TSTF-541, Revision 2, “Add Exceptions to Surveillance Requirements [SRs] for Valves and Dampers Locked in the Actuated Position” (ADAMS Accession No. ML19240A315). The proposed amendments would also make similar changes to SRs not included in TSTF-541, Revision 2, and additional editorial changes to the TSs.
Proposed Determination | NSHC.
Name of Attorney for Licensee, Mailing Address | Tamra Domeyer, Associate General Counsel, Exelon Generation Company, LLC, 4300 Winfield Road, Warrenville, IL 60555.
NRC Project Manager, Telephone Number | Blake Purnell, 301-415-1380.
NextEra Energy Seabrook, LLC; Seabrook Station, Unit 1; Rockingham County, NH
Docket No(s) | 50-443.
Application date | July 21, 2021, as supplemented by letter dated September 22, 2021.
ADAMS Accession No | ML21202A238, ML21265A416.
Location in Application of NSHC | Pages 14-15 of the Enclosure.
Brief Description of Amendment(s) | The proposed license amendment would modify Seabrook Station, Unit 1 Technical Specifications 3.8.3, “Onsite Power Distribution—Operating” by increasing the Allowed Outage Time for the 120-volt AC [alternating current] vital instrument panel inverters, establishing a new required action for two inoperable 120-volt AC vital instrument panel inverters of the same electrical train and related administrative changes.
Proposed Determination | NSHC.
Name of Attorney for Licensee, Mailing Address | Steven Hamrick, Managing Attorney—Nuclear, Florida Power and Light Company, P.O. Box 14000, Juno Beach, FL 33408-0420.
NRC Project Manager, Telephone Number | Justin Poole, 301-415-2048.
Nine Mile Point Nuclear Station, LLC and Exelon Generation Company, LLC; Nine Mile Point Nuclear Station, Unit 2; Oswego County, NY
Docket No(s) | 50-410.
Application date | September 30, 2021.
ADAMS Accession No | ML21273A017.
Location in Application of NSHC | Pages 3-5 of the Enclosure.
Brief Description of Amendment(s) | The proposed changes would revise the Nine Mile Point, Unit 2, technical specifications related to reactor pressure vessel (RPV) water inventory control (WIC) based on Technical Specifications Task Force (TSTF) Traveler TSTF-582, Revision 0, “RPV WIC Enhancements” (TSTF-582) (ADAMS Accession No. ML19240A260), and the associated NRC staff safety evaluation for TSTF-582 (ADAMS Accession No. ML20219A333).
Proposed Determination | NSHC.
Name of Attorney for Licensee, Mailing Address | Tamra Domeyer, Associate General Counsel, Exelon Generation Company, LLC, 4300 Winfield Road, Warrenville, IL 60555.
NRC Project Manager, Telephone Number | Richard Guzman, 301-415-1030.
PSEG Nuclear LLC; Hope Creek Generating Station; Salem County, NJ; PSEG Nuclear LLC; Salem Nuclear Generating Station, Units 1 and 2; Salem County, NJ
Docket No(s) | 50-354, 50-272, 50-311.
Application date | September 29, 2021.
ADAMS Accession No | ML21272A184.
Location in Application of NSHC | Pages 7-8 of the Enclosure.
Brief Description of Amendment(s) | The proposed amendments revise the Hope Creek Generating Station and Salem Nuclear Generating Stations, Units 1 and 2, Technical Specifications (TSs) to remove TS definitions for Member(s) of the Public, Site Boundary, and Unrestricted Area which are already present in the definitions found in the Offsite Dose Calculation Manual for each site as well as 10 CFR 20.1003. The proposed amendments also remove figures of the site and surrounding area from the TSs.
Proposed Determination | NSHC.
Name of Attorney for Licensee, Mailing Address | Steven Fleischer, PSEG Services Corporation, 80 Park Plaza, T-5, Newark, NJ 07102.
NRC Project Manager, Telephone Number | James Kim, 301-415-4125.
Southern Nuclear Operating Company, Inc.; Edwin I. Hatch Nuclear Plant, Units 1 and 2; Appling County, GA
Docket No(s) | 50-321, 50-366.
Application date | October 13, 2021.
ADAMS Accession No | ML21286A595.
Location in Application of NSHC | Pages E-7 through E-9 of Enclosure.
Brief Description of Amendment(s) | By letter dated October 13, 2021, Southern Nuclear Operating Company submitted a License Amendment Request (LAR) for Edwin I. Hatch Nuclear Plant, Units 1 and 2. The proposed LAR revises Technical Specification (TS) 3.3.6.1, “Primary Containment Isolation Instrumentation,” Table 3.3.6.1-1, to eliminate the requirement for automatic main steam line isolation on high turbine building area temperature (Function 1.f).
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Southern Nuclear Operating Company, Inc.; Edwin I. Hatch Nuclear Plant, Units 1 and 2; Appling County, GA; Southern Nuclear Operating Company, Inc.; Joseph M. Farley Nuclear Plant, Units 1 and 2; Houston County, AL; Southern Nuclear Operating Company, Inc.; Vogtle Electric Generating Plant, Units 1 and 2; Burke County, GA
Docket No(s) | 50-321, 50-348, 50-364, 50-366, 50-424, 50-425.
Application date | September 29, 2021.
ADAMS Accession No | ML21273A072.
Location in Application of NSHC | Page E-3 through E-5 of Enclosure.
Brief Description of Amendment(s) | The proposed amendment would adopt of Technical Specification Task Force (TSTF) Traveler TSTF-554, “Revise Reactor Coolant Leakage Requirements,” which is an approved change to the Standard Technical Specifications, into the Technical Specifications (TSs) of Joseph M. Farley Nuclear Plant, Units 1 and 2; Edwin I. Hatch Nuclear Plant, Units 1 and 2; and Vogtle Electric Generating Plant, Units 1 and 2. The proposed amendment revises the TS definition of “LEAKAGE,” clarifies the requirements when pressure boundary leakage is detected and adds a Required Action when pressure boundary leakage is identified.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Virginia Electric and Power Company, Dominion Nuclear Company; North Anna Power Station, Units 1 and 2; Louisa County, VA
Docket No(s) | 50-338, 50-339.
Application date | September 9, 2021.
ADAMS Accession No | ML21252A514.
Location in Application of NSHC | Page 2 of 4 of Enclosure.
Brief Description of Amendment(s) | The proposed amendment would revise Technical Specification (TS) 5.6.7, “Steam Generator (SG) Program,” and TS 5.5.8, “Steam Generator Tube Inspection Report,” in accordance with TSTF-577, Revision 1.
Proposed Determination | NSHC.
Name of Attorney for Licensee, Mailing Address | W.S. Blair, Senior Counsel, Dominion Resource Services, Inc., 120 Tredegar St., RS-2, Richmond, VA 23219.
NRC Project Manager, Telephone Number | G. Ed Miller, 301-415-2481.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the table below. The safety evaluation will provide the ADAMS accession numbers for the application for amendment and the Federal Register citation for any environmental assessment. All of these items can be accessed as described in the “Obtaining Information and Submitting Comments” section of this document.

License Amendment Issuance(s)
Duke Energy Carolinas, LLC; Catawba Nuclear Station, Units 1 and 2; York County, SC; Duke Energy Carolinas, LLC; McGuire Nuclear Station, Units 1 and 2; Mecklenburg County, NC; Duke Energy Progress, LLC; Shearon Harris Nuclear Power Plant, Unit 1; Wake and Chatham Counties, NC
Docket No(s) | 50-369, 50-370, 50-400, 50-413, 50-414.
Amendment Date | October 7, 2021.
ADAMS Accession No | ML21224A101.
Amendment No(s) | Catawba—310 (Unit 1) and 306 (Unit 2), Harris—186 (Unit 1), McGuire—320 (Unit 1) and 299 (Unit 2).
Brief Description of Amendment(s) | For Catawba Nuclear Station (CNS) and McGuire Nuclear Station, the proposed change would revise Technical Specification (TS) Section 3.3.2, “Engineered Safety Features Actuation System (ESFAS) Instrumentation” specifically Table 3.3.2-1 dealing with the ESFAS interlock, reactor trip function, and for Shearon Harris Nuclear Power Plant the proposed change would also revise the ESFAS interlock, reactor trip function found in TS Table 3.3-3 of Section 3/4.3.2, “Engineered Safety Features Actuation System Instrumentation.” This change will thereby identify the enabled functions and the applicable MODES for each enabled function which will remove the turbine trip function of the P-4 interlock in MODE 3 from the existing specifications. Additionally, for CNS only, this change will remove the steam dump function of the P-4 interlock in MODES 1, 2, and 3.
Public Comments Received as to Proposed NSHC (Yes/No) | No.
Energy Harbor Nuclear Corp. and Energy Harbor Nuclear Generation LLC; Beaver Valley Power Station, Unit Nos. 1 and 2; Beaver County, PA
Docket No(s) | 50-334, 50-412.
Amendment Date | October 15, 2021.
ADAMS Accession No | ML21214A275.
Amendment No(s) | 312 (Unit 1), 202 (Unit 2).
Brief Description of Amendment(s) | The amendments increased the number of operable atmospheric dump valves to four for Unit 1.
Public Comments Received as to Proposed NSHC (Yes/No) | No.
Energy Harbor Nuclear Corp. and Energy Harbor Nuclear Generation LLC; Beaver Valley Power Station, Unit Nos. 1 and 2; Beaver County, PA
Docket No(s) | 50-334, 50-412.
Amendment Date | November 1, 2021.
ADAMS Accession No | ML21197A009.
Amendment No(s) | 313 (Unit 1), 203 (Unit 2).
Brief Description of Amendment(s) | These amendments update the methods used to determine reactor coolant system pressure and temperature limits for operation of the Beaver Valley Power Station, Unit Nos. 1 and 2.
Public Comments Received as to Proposed NSHC (Yes/No) | No.
Holtec Pilgrim, LLC and Holtec Decommissioning International; Pilgrim Nuclear Power Station; Plymouth County, MA
Docket No(s) | 50-293.
Amendment Date | October 21, 2021.
ADAMS Accession No | ML21251A162 (Package).
Amendment No(s) | 257.
Brief Description of Amendment(s) | The amendment replaces the Pilgrim Permanently Defueled Emergency Plan and associated Permanently Defueled Emergency Action Level (EAL) Technical Bases Document (hereafter referred to as the EAL scheme) with an Independent Spent Fuel Storage Installation (ISFSI) Only Emergency Plan and associated EAL scheme. This license amendment is effective upon NRC receipt of written notification from Holtec Decommissioning, International, that all spent fuel is in dry storage located onsite at the newly built ISFSI (ISFSI II) and shall be implemented within 90 days of the effective date. This change upon implementation would reflect the complete removal of all fuel from the spent fuel pool and would permit specific reductions in the size and makeup of the Emergency Response Organization once the design basis accident related to the spent fuel (fuel handling accident) is eliminated.
Public Comments Received as to Proposed NSHC (Yes/No) | No.
Nine Mile Point Nuclear Station, LLC and Exelon Generation Company, LLC; Nine Mile Point Nuclear Station, Unit 1; Oswego County, NY
Docket No(s) | 50-220.
Amendment Date | November 2, 2021.
ADAMS Accession No | ML21256A179.
Amendment No(s) | 246.
Brief Description of Amendment(s) | The amendment revised the Nine Mile Point, Unit 1, Technical Specification (TS) related to reactor pressure vessel (RPV) water inventory control (WIC) based on Technical Specification Task Force (TSTF) Traveler TSTF-582, Revision 0, “RPV WIC Enhancements.”
Public Comments Received as to Proposed NSHC (Yes/No) | No.
Susquehanna Nuclear, LLC and Allegheny Electric Cooperative, Inc.; Susquehanna Steam Electric Station, Unit 2; Luzerne County, PA
Docket No(s) | 50-388.
Amendment Date | November 4, 2021.
ADAMS Accession No | ML21229A157.
Amendment No(s) | 263.
Brief Description of Amendment(s) | The amendment modified Technical Specification 3.8.7, “Distribution Systems—Operating,” which temporarily extended the completion time to allow replacement of two transformers.
Public Comments Received as to Proposed NSHC (Yes/No) | No.
Tennessee Valley Authority; Browns Ferry Nuclear Plant, Units 1, 2, and 3; Limestone County, AL
Docket No(s) | 50-259, 50-260, 50-296.
Amendment Date | October 28, 2021.
ADAMS Accession No | ML21285A068.
Amendment No(s) | 319 (Unit 1); 342 (Unit 2); 302 (Unit 3).
Brief Description of Amendment(s) | The amendments revised the Technical Specifications (TS) related to reactor pressure vessel (RPV) water inventory control (WIC) based on Technical Specification Task Force (TSTF) Traveler TSTF-582, Revision 0, “RPV WIC Enhancements” (TSTF-582) (ADAMS Accession No. ML19240A260), and the associated NRC safety evaluation for TSTF-582 (ADAMS Accession No. ML20219A333).
Public Comments Received as to Proposed NSHC (Yes/No) | No.
Tennessee Valley Authority; Sequoyah Nuclear Plant, Units 1 and 2; Hamilton County, TN
Docket No(s) | 50-327, 50-328.
Amendment Date | October 27, 2021.
ADAMS Accession No | ML21245A267.
Amendment No(s) | 356 (Unit 1), 349 (Unit 2).
Brief Description of Amendment(s) | The amendments revised Technical Specification (TS) to allow the use of Westinghouse RFA-2 fuel with Optimized ZIRLOTM cladding. Further, the amendments revised TS 5.6.3, “Core Operating Limits Report,” to replace the loss-of-coolant accident (LOCA) analysis evaluation model references with the FULL SPECTRUMTM LOCA evaluation model. Finally, the amendment revised the TSs to permit the use of 52 full-length control rods with no full-length control rod assembly in core location H-08. The license amendments include reference to a related exemption from the requirements of 10 CFR 50.46 and Appendix K to 10 CFR Part 50.
Public Comments Received as to Proposed NSHC (Yes/No) | No.
Tennessee Valley Authority; Watts Bar Nuclear Plant, Units 1 and 2; Rhea County, TN
Docket No(s) | 50-390, 50-391.
Amendment Date | November 3, 2021.
ADAMS Accession No | ML21189A307.
Amendment No(s) | 149 (Unit 1), 56 (Unit 2).
Brief Description of Amendment(s) | The amendments revised the Watts Bar Nuclear Plant, Units 1 and 2, Technical Specification 5.7.2.19, “Containment Leakage Rate Testing Program,” by replacing the reference to Regulatory Guide 1.163, “Performance Based Containment Leak Test Program,” with a reference to Nuclear Energy Institute (NEI) 94 01, Revision 3-A, July 2012, “Industry Guideline for Implementing Performance Based Option of 10 CFR Part 50, Appendix J,” and the conditions and limitations specified in NEI 94 01, Revision 2-A, of the same name, dated October 2008. The amendments extended the Type A primary containment integrated leak rate test interval from 10 to 15 years and the Type C local leak rate test interval from 60 to up to 75 months. The amendments also clarified the pressure value for leakage rate testing purposes.
Public Comments Received as to Proposed NSHC (Yes/No) | No.
Virginia Electric and Power Company, Dominion Nuclear Company; North Anna Power Station, Unit Nos. 1 and 2; Louisa County, VA
Docket No(s) | 50-338, 50-339.
Amendment Date | October 19, 2021.
ADAMS Accession No | ML21232A217.
Amendment No(s) | 288 (Unit 1) and 271 (Unit 2).
Brief Description of Amendment(s) | The amendments augment Technical Specification Surveillance Requirements 3.8.4.2 and 3.8.4.5 to include verification of total battery connection resistance.
Public Comments Received as to Proposed NSHC (Yes/No) | No.
Virginia Electric and Power Company; Surry Power Station, Unit No. 1; Surry County, VA; Virginia Electric and Power Company; Surry Power Station, Unit No. 2; Surry County, VA
Docket No(s) | 50-280, 50-281.
Amendment Date | October 26, 2021.
ADAMS Accession No | ML21188A174.
Amendment No(s) | 305 (Unit 1), 305 (Unit 2).
Brief Description of Amendment(s) | The proposed amendments would revise Technical Specifications 2.1.A.1.b, “Safety Limit Reactor Core,” to reflect the peak fuel centerline melt temperature specified in WCAP-17642-P-A, Revision 1, “Westinghouse Performance Analysis and Design Model (PAD5).”
Public Comments Received as to Proposed NSHC (Yes/No) | Yes.

IV. Previously Published Notice of Consideration of Issuance of Amendments to Facility Operating Licenses and Combined Licenses, Proposed No Significant Hazards Consideration Determination, and Opportunity for a Hearing

The following notice was previously published as separate individual notice. It was published as an individual notice either because time did not allow the Commission to wait for this monthly notice or because the action involved exigent circumstances. It is repeated here because the monthly notice lists all amendments issued or proposed to be issued involving NSHC.

For details, including the applicable notice period, see the individual notice in the Federal Register on the day and page cited.

License Amendment Request(s)—Repeat of Individual Federal Register Notice
Northern States Power Company—Minnesota; Prairie Island Nuclear Generating Plant, Units 1 and 2; Goodhue County, MN
Docket No(s) | 50-282, 50-306.
Application Date | October 7, 2021.
ADAMS Accession No | ML21281A017.
Brief Description of Amendment(s) | The proposed amendments would allow a one-time extension of the allowed outage time for the motor-driven cooling pump as a contingency for planned maintenance on the cooling water system.
Date & Cite of Federal Register Individual Notice | October 21, 2021 (86 FR 58308).
Expiration Dates for Public Comments & Hearing Requests | Public Comment: November 22, 2021 Hearing Requests: December 20, 2021.

For the Nuclear Regulatory Commission.
Dated: November 23, 2021.
Caroline L. Carusone,
Deputy Director, Division of Operating Reactor Licensing, Office of Nuclear Reactor Regulation.

[FR Doc. 2021-25907 Filed 11-29-21; 8:45 am]

BILLING CODE 7590-01-P